ENVIRONMENTAL PROTECTION AGENCY

[FRL-7653-7]

Meeting of the National Drinking Water Advisory Council

AGENCY: Environmental Protection Agency.

ACTION: Notice of meeting.

SUMMARY: Under the Federal Advisory Committee Act, notice is hereby given of the forthcoming meeting of the National Drinking Water Advisory Council (NDWAC or Council). The Council was established under the Safe Drinking Water Act (SDWA), as amended, to provide practical and independent advice, consultation and recommendations to the Agency on the activities, functions and policies related to the implementation of SDWA. The Council will hear presentations and have discussions on topics important to the Environmental Protection Agency's (EPA's) national drinking water program, including, but not limited to: Updates and current issues related to regulatory activities, program implementation concerns, critical water infrastructure protection activities, and status reports on NDWAC workgroups including a report-out from the Contaminant Candidate List workgroup.

DATES: The Council meeting will be held on May 18, 2003, from 8:30 a.m. until 5:30 p.m.; on May 19, 2003, from 8:30 a.m. until 5:30 p.m.; and on May 20, 2003, from 8:30 a.m. until 12 p.m., EDT.

ADDRESSES: The meeting will be held at the Holiday Inn at National Airport, located at 2650 Jefferson Davis Highway, Arlington, Virginia, and is open to the public.

FOR FURTHER INFORMATION CONTACT: Members of the public that would like to attend the meeting, present an oral statement, or submit a written statement, should contact Clare Donaher, by phone at (202) 564-3787, by e-mail at donaher.clare@epa.gov, or by regular mail at the U.S. Environmental Protection Agency, Office of Ground Water and Drinking Water (M/C 4601M), 1200 Pennsylvania Avenue, NW., Washington, DC 20460.

SUPPLEMENTARY INFORMATION: In accordance with section 10(a)(2) of Public Law 92-423, “The Federal Advisory Committee Act,” EPA is hereby providing notice of a meeting of the National Drinking Water Advisory Council (NDWAC or Council), established under the Safe Drinking Water Act, as amended (42 U.S.C. 300f et seq.). The Council encourages the public's input and will allocate one hour during the meeting for this purpose. Oral statements will be limited to five minutes, and it is preferred that only one person present the statement on behalf of a group or organization. To ensure adequate time for public involvement, individuals or organizations interested in presenting an oral statement should notify Clare Donaher by telephone at (202) 564-3787 no later than May 3, 2004. Any person who wishes to file a written statement can do so before or after a Council meeting. Written statements received by May 3, 2004, will be distributed to all members of the Council before any final discussion or vote is completed. Any statements received after the meeting will become part of the permanent meeting file and will be forwarded to the Council members for their information. Any person needing special accommodations at this meeting, including wheelchair access, please contact Clare Donaher (see FOR FURTHER INFORMATION CONTACT section). Arrangements need to be made at least five business days before the meeting so that appropriate special accommodations can be made.

Dated: April 20, 2004.
Cynthia C. Dougherty,
Director, Office of Ground Water and Drinking Water.

[FR Doc. 04-9408 Filed 4-23-04; 8:45 am]

BILLING CODE 6560-50-P